DEPARTMENT OF LABOR

Occupational Safety and Health Administration

[Docket No. GEW2002-1]

Extension of Comment Period for Ergonomics for the Prevention of Musculoskeletal Disorders: Guidelines for Nursing Homes

AGENCY: Occupational Safety and Health Administration (OSHA); Department of Labor

ACTION: Extension of comment period.

SUMMARY: The Department of Labor is extending the comment period for its draft, Ergonomics for the Prevention of Musculoskeletal Disorders: Guidelines for Nursing Homes, an additional thirty (30) days until October 30, 2002.

DATES: Written Comments: Comments must be submitted by the following dates: Hard Copy. Your comments must be submitted (postmarked or sent) by October 30, 2002. Facsimile and electronic transmission: Your comments must be sent by October 30, 2002. (Please see the SUPPLEMENTARY INFORMATION below for additional information on submitting comments.)

ADDRESSES:

I. Submission of Comments

Regular mail, express delivery, hand-delivery, and messenger service: You must submit three copies of your comments and attachments to the OSHA Docket Office, docket No. GE2002-1, Room N-2625, U.S. Department of Labor, 200 Constitution Avenue, NW., Washington, DC 20210, telephone (202) 693-2350. OSHA Docket Office and Department of Labor hours of operation are 8:15 a.m. to 4:45 p.m., EST.

Facsimile: If your comments, including any attachments, are 10 pages or fewer, you may fax Them to the OSHA Docket Office at (202) 693-1648. You must include the docket number of this document, Docket No. GE2002-1, in your comments.

Electronic: You may submit your comments (but not attachments) through the Internet at http://ecomments.osha.gov/. (Please see the SUPPLEMENTARY INFORMATION below for additional information on submitting comments.)

II. Obtaining Copies of the Draft Guidelines: The draft guidelines for the nursing home industry are available for downloading from OSHA's Web site at http://www.osha.gov. A printed copy of the draft guidelines is available from the OSHA Publications Office, Room N-3101, U.S. Department of Labor, 200 Constitution Avenue, NW., Washington, DC 20210, or by telephone at 1-800-321-OSHA (6742). You may fax your request for a copy of the draft guidelines to (202) 693-2498.

FOR FURTHER INFORMATION CONTACT: Steven F. Witt, OSHA Directorate of Standards and Guidance, Room N-3718, U.S. Department of Labor, 200 Constitution Avenue, NW., Washington, DC 20210, telephone (202) 693-1950.

SUPPLEMENTARY INFORMATION:

I. Extension of Comment Period

OSHA announced publication of its draft Ergonomics for the Prevention of Musculoskeletal Disorders: Guidelines for Nursing Homes in the Federal Register on August 30, 2002 (67 FR 55884). In that notice, the Agency provided the public with thirty (30) days to submit written comments, extending through September 30, 2002. Several interested persons requested that OSHA provide additional time to submit written comments on the draft guidelines. In light of the interest expressed by the public, OSHA is providing an additional thirty (30) days for comment. Accordingly, written comments must now be submitted by October 30, 2002. OSHA is holding an stakeholder meeting in the Washington, DC, area on November 18, 2002.

II. Submission of Comments

As stated in the August 30, 2002, Federal Register notice, you may submit comments on the draft guidelines by (1) hard copy, (2) fax transmission (facsimile), or (3) electronically through the OSHA Web page. Please note that you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of materials by express delivery, hand delivery and messenger service.

This notice was prepared under the direction of John L. Hensaw, Assistant Secretary for Occupational Safety and Health. It is issued under sections 4 and 8 of the Occupational Safety and Health Act of 1970 (29 U.S.C. 653, 657).

Issued at Washington, DC, this 24th day of September, 2002.
John L. Henshaw,
Assistant Secretary of Labor.

[FR Doc. 02-24708 Filed 9-26-02; 8:45 am]

BILLING CODE 4510-26-M